DEPARTMENT OF TRANSPORTATION

Federal Motor Carrier Safety Administration

49 CFR Part 393

Parts and Accessories Necessary for Safe Operation; Lamps and Reflective Devices

CFR Correction

In Title 49 of the Code of Federal Regulations, Parts 300 to 399, revised as of October 1, 2008, in § 393.11, on page 375, remove paragraph (d) and on page 377, revise the heading of Table 1 to read “Table 1 of § 393.11—Required Lamps and Reflectors on Commercial Motor Vehicles”.

[FR Doc. E9-22259 Filed 9-14-09; 8:45 am]

BILLING CODE 1505-01-D